DEPARTMENT OF COMMERCE

National Oceanic and Atmospheric Administration

15 CFR Part 922

[Docket No. 010712175-1175-01]

RIN 0648-XA71

Fair Market Value Analysis for a Submarine Cable Permit in National Marine Sanctuaries

AGENCY: National Marine Sanctuary Program (NMSP), National Ocean Service (NOS), National Oceanic and Atmospheric Administration (NOAA), Department of Commerce (DOC).

ACTION: Notice of Availability; reopening of opportunity for public comment.

SUMMARY: Notice is hereby given that NOAA is reopening its request for comments on the draft report “Fair Market Value Analysis for a Submarine Cable Permit in National Marine Sanctuaries.” However, in re-opening the comment period, NOAA has removed the recommended fee amount from the report and, rather, seeks comment on the methodology presented in the report or suggestions of other appropriate methodologies for determining the fair market value for the presence of a submarine cable in a national marine sanctuary. NOAA is reopening the public comment period for 45 days.

DATES: Comments must be received by October 1, 2001.

ADDRESSES: Address all comments regarding this notice to Helen Golde, Chief, Conservation Policy and Planning Branch, Office of National Marine Sanctuaries, 1305 East-West Highway, 11th Floor, Silver Spring, MD 20910, Attention: Fair Market Value Analysis. Comments may also be submitted by email to: submarine.cables@noaa.gov, subject line “Fair Market Value Analysis.” The report is available for download at http://www.sanctuaries.nos.noaa.gov or by requesting an electronic or hard copy. Requests can be made by sending an email to submarine.cables@noaa.gov (subject line “Request for Fair Market Value Analysis”) or by calling Matt Brookhart at the number below.

FOR FURTHER INFORMATION CONTACT: Matt Brookhart, (301) 713-3125 x140.

SUPPLEMENTARY INFORMATION: Section 310 of the National Marine Sanctuaries Act, 16 U.S.C. 1441, authorizes the issuance of special use permits to establish conditions of access to and use of any sanctuary resource or to promote public use and understanding of a sanctuary resource. Section 310 also authorizes the assessment of fees for issuance of special use permits, including a fee that represents the fair market value of the use of sanctuary resources. NOAA's National Marine Sanctuary Program has issued two special use permits for the presence of submarine fiber optic cables in two national marine sanctuaries, one in the Olympic Coast Sanctuary National Marine Sanctuary (NMS) and the second in the Stellwagen Bank NMS.

NOAA has committed that the process for determining the fair market value of any special use permit issued for the presence of submarine cables will allow for input from the permit holders as well as other stakeholders and interested persons.

An interim final version of a report, “Fair Market Value Analysis for Submarine Cable Permit in National Marine Sanctuaries,” was completed in December 2000. The report presents an assessment of fair market value for the presence of a submarine cable in a National Marine Sanctuary. The content of this report is based on dozens of industry and government sources and draws on the collaboration with and review by numerous experts in the business, legal and technical arenas. NOAA published a notice in the Federal Register on January 5, 2000 initiating a public comment period on the report, that ended on January 18, 2001. Copies of the report and two peer reviews were also posted on the National Marine Sanctuary Program's website. A total of 21 responses were received. Of these responses, one generally supported the report's methodology and conclusions, four argued it undervalued fair market fees in Sanctuaries, three argued it overvalued fair market fees in sanctuaries, and thirteen requested additional time to comment. Following the closure of the initial comment period, NOAA informally notified all commenters, the two existing permit holders, and all known interested parties that the public comment period would be reopened at some point in the future before a final determination on fair market value would be made. This notice reopens that comment period.

Since the initial comment period, NOAA has updated the report by making a number of editorial and clarifying changes, and including some updated information. Further, NOAA has removed the recommended fee amount and now seeks comments on the methodology described in the report or suggestion of an appropriate alternative methodology.

Once the current comment period closes, NOAA will evaluate the comments and make any necessary revisions to the methodology used in determining fair market value. NOAA will then work with the existing special use permit holders, utilizing such methodology, to assess the fair market value fee for their permits. NOAA will publish a final notice that summarizes all comments and presents a final fee methodology to be applied to any future cable projects within national marine sanctuaries that may be authorized pursuant to a special use permit.

In a separate process, NOAA will continue developing its policy on submarine cables within national marine sanctuaries, following up on the August 23, 2000, Advance Notice of Proposed Rulemaking (ANPR) on Installing and Maintaining Commercial Submarine Cables in National Marine Sanctuaries (65 FR 51264). The ANPR included a draft set of proposed principles for laying submarine cables in the marine and coastal environment. Through this separate process, NOAA will consider whether to issue regulations or a policy statement on submarine cables within sanctuaries including whether the issuance of special use permits is necessary or appropriate.

Dated: August 9, 2001.
Alan Neuschatz,
Chief Financial Officer/Chief Administrative Officer, Ocean Services and Coastal Zone Management.

[FR Doc. 01-20833 Filed 8-16-01; 8:45 am]

BILLING CODE 3510-08-M